DEPARTMENT OF COMMERCE

National Oceanic and Atmospheric Administration

[I.D. 040902B]

Pacific Fishery Management Council; Public Meeting

AGENCY: National Marine Fisheries Service (NMFS), National Oceanic and Atmospheric Administration (NOAA), Commerce.

ACTION: Notice of public meeting.

SUMMARY: An ad hoc committee of the Pacific Fishery Management Council (Council) will hold a meeting which is open to the public.

DATES: The meeting will convene at 8 a.m. on Monday, April 29, 2002, and adjourn the same day when business is completed.

ADDRESSES: The meeting will be held in Suite C of the California Department of Fish and Game Offices at 4665 Lampson Ave., Los Alamitos, CA 90720; telephone: (562) 342-7114.

Council address: 7700 NE Ambassador Place, Suite 200, Portland, OR 97220-1384.

FOR FURTHER INFORMATION CONTACT: Mr. Jim Seger, Fishery Economics Staff Officer, telephone: (503) 326-6352.

SUPPLEMENTARY INFORMATION: The purpose of the meeting is to review California Fish and Game Commission proposals for the creation of marine reserves for the Channel Islands National Marine Sanctuary

Although nonemergency issues not contained in the meeting agenda may come before the ad hoc committee for discussion, those issues may not be the subject of formal action during the meeting. Action will be restricted to those issues specifically listed in this notice and any issues arising after publication of this notice that require emergency action under section 305(c) of the Magnuson-Stevens Fishery Conservation and Management Act, provided the public has been notified of the ad hoc committees intent to take final action to address the emergency.

Special Accommodations

This meeting is physically accessible to people with disabilities. Requests for sign language interpretation or other auxiliary aids should be directed to Ms. Carolyn Porter at (503) 326-6352 at least 5 days prior to the meeting date.

Dated: April 9, 2002.
Richard W. Surdi,
Acting Director, Office of Sustainable Fisheries, National Marine Fisheries Service.

[FR Doc. 02-9086 Filed 4-12-02; 8:45 am]

BILLING CODE 3510-22-S